DEPARTMENT OF STATE

[Public Notice 3693]

Culturally Significant Objects Imported for Exhibition Determinations: “The Art of Chola Bronzes”

AGENCY: United States Department of State.

ACTION: Notice.

SUMMARY: Notice is hereby given of the following determinations:

Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority No. 236 of October 19, 1999, as amended, I hereby determine that the object to be included in the exhibition “The Art of Chola Bronzes,” imported from abroad for the temporary exhibition without profit within the United States, are of cultural significance. The object is imported pursuant to a loan agreement with the foreign lender. I also determine that the exhibition or display of the exhibit object at the Arthur M. Sackler Gallery, Washington, DC from on or about November 10, 2002 to on or about March 9, 2003 and the Dallas Museum of Art, Dallas, TX from on or about April 4, 2003 to on or about June 15, 2003, and the Cleveland Museum of Art, Cleveland, OH from on or about July 4, 2003 to on or about September 14, 2003 is in the national interest. Public Notice of these Determinations is ordered to be published in the Federal Register.

FOR FURTHER INFORMATION CONTACT: For further information, including a list of the exhibit objects, contact Carol B. Epstein, Attorney-Adviser,Office of the Legal Adviser, U.S. Department of State (telephone: 202/619-6981).The address is U.S. Department of State, SA-44, 301 4th Street, SW., Room 700,Washington, DC 20547-0001.

Dated: June 1, 2001.
Helena Kane Finn,
Acting Assistant Secretary for Educational and Cultural Affairs, United States Department of State.

[FR Doc. 01-14629 Filed 6-8-01; 8:45 am]

BILLING CODE 4710-08-U